DEPARTMENT OF HOMELAND SECURITY

Federal Emergency Management Agency

44 CFR Part 65

[Docket ID FEMA-2011-0002; Internal Agency Docket No. FEMA-B-1228]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas:
Benton | City of Bella Vista (11-06-1141P) | September 7, 2011; September 14, 2011; The Bella Vista Weekly Vista | The Honorable Frank E. Anderson, Mayor, City of Bella Vista, 406 Town Center Northeast, Bella Vista, AR 72714 | January 12, 2012 | 050511
Benton | City of Bentonville (11-06-1914P) | August 30, 2011; September 6, 2011; The Benton County Daily Record | The Honorable Bob McCaslin, Mayor, City of Bentonville, 117 West Central Avenue, Bentonville, AR 72712 | January 4, 2012 | 050012
Benton | Unincorporated areas of Benton County (11-06-1914P) | August 30, 2011; September 6, 2011; The Benton County Daily Record | The Honorable Robert Clinard, Benton County Judge, 215 East Central Avenue, Bentonville, AR 72712 | January 4, 2012 | 050419
New Jersey:
Bergen | Township of Mahwah (11-02-0617P) | February 7, 2011; February 14, 2011; The Record | The Honorable John DaPuzzo, Mayor, Township of Mahwah, 475 Corporate Drive, Mahwah, NJ 07430 | June 14, 2011 | 340049
Bergen | Borough of Ramsey (11-02-0617P) | February 7, 2011; February 14, 2011; The Record | The Honorable Christopher C. Botta, Mayor, Borough of Ramsey, 33 North Central Avenue, Ramsey, NJ 07446 | June 14, 2011 | 340064
Middlesex | Township of Cranbury (10-02-0830P) | September 16, 2011; September 23, 2011; The Cranbury Press | The Honorable David J. Stout, Mayor, Township of Cranbury, 23-A North Main Street, Cranbury, NJ 08512 | December 8, 2010 | 340258
New York: Dutchess | Town of East Fishkill (10-02-0092P) | February 23, 2011; March 2, 2011; The Poughkeepsie Journal | The Honorable John J. Hickman, Jr., Supervisor, Town of East Fishkill, 330 State Route 376, Hopewell Junction, NY 12533 | August 16, 2011 | 361336
Oklahoma: Oklahoma | City of Oklahoma City (10-06-1424P) | September 13, 2011; September 20, 2011; The Journal Record | The Honorable Mick Cornett, Mayor, City of Oklahoma City, 200 North Walker Avenue, 3rd Floor, Oklahoma City, OK 73102 | January 18, 2012 | 405378
Pennsylvania: Lycoming | Township of Muncy (10-03-0172P) | February 23, 2011; March 2, 2011; The Williamsport Sun-Gazette | The Honorable Paul Wentzler, Chairman, Township of Muncy Board of Supervisors, 1922 Pond Road, Pennsdale, PA 17756 | June 30, 2011 | 421847
Texas:
Collin | City of Wylie (11-06-0830P) | August 24, 2011; August 31, 2011; The Wylie News | The Honorable Eric Hogue, Mayor, City of Wylie, 300 Country Club Road, Building 100, Wylie, TX 75098 | December 29, 2011 | 480759
Kendall | City of Boerne (10-06-3371P) | August 12, 2011; August 19, 2011; The Boerne Star | The Honorable Mike Schultz, Mayor, City of Boerne, 402 East Blanco Road, Boerne, TX 78006 | December 19, 2011 | 480418
Kendall | Unincorporated areas of Kendall County (10-06-3371P) | August 12, 2011; August 19, 2011; The Boerne Star | The Honorable Gaylan Schroeder, Kendall County Judge, 201 East San Antonio Street, Suite 120, Boerne, TX 78006 | December 19, 2011 | 480417

(Catalog of Federal Domestic Assistance No. 97.022, “Flood Insurance.”)

Dated: November 18, 2011.
Sandra K. Knight,
Deputy Associate Administrator for Mitigation, Department of Homeland Security, Federal Emergency Management Agency.

[FR Doc. 2011-31724 Filed 12-9-11; 8:45 am]

BILLING CODE 9110-12-P